DEPARTMENT OF TRANSPORTATION

Office of the Secretary

[Docket No. DOT-OST-2020-0232]

Agency Information Collection Activities: Renewed Approval of Information Collection

AGENCY: Office of the Secretary (OST), DOT.

ACTION: 60-Day notice and request for comments.

SUMMARY: The Department of Transportation (DOT) invites public comments on our intention to request Office of Management and Budget (OMB) approval for an information collection in accordance with the requirements of the Paperwork Reduction Act of 1995. The collection is necessary for administration of the “Discretionary Grants for Nationally Significant Freight and Highway Projects (FASTLANE/INFRA) Program”. FASTLANE/INFRA grants support surface transportation infrastructure projects that have a significant local or regional impact.

DATES: Written comments should be submitted by January 19, 2021.

ADDRESSES: To ensure that you do not duplicate your docket submissions, please submit them by only one of the following means:

• Federal eRulemaking Portal: Go to http://www.regulations.gov and follow the online instructions for submitting comments.

• Mail: Docket Management Facility, U.S. Department of Transportation, 1200 New Jersey Ave. SE, West Building Ground Floor, Room W12-140, Washington, DC 20590-0001.

• Hand Delivery: West Building Ground Floor, Room W-12-140, 1200 New Jersey Ave. SE, between 9 a.m. and 5 p.m., Monday through Friday, except Federal holidays. The telephone number is 202-366-9329.

Instructions: To ensure proper docketing of your comment, please include the agency name and docket number DOT-OST-2020-0232 at the beginning of your comments. All comments received will be posted without change to http://www.regulations.gov, including any personal information provided.

FOR FURTHER INFORMATION CONTACT: For further information regarding this notice, please contact the Office of the Secretary via email at INFRAgrants@dot.gov, or call Paul Baumer at (202) 366-1092.

SUPPLEMENTARY INFORMATION: New Collection. OMB number will be issued after the collection is approved.

Title: Discretionary Grants for Nationally Significant Freight and Highway Projects (FASTLANE/INFRA) Program.

Form Numbers: None.

Type of Review: New Information Collection Request (ICR).

Background: The Office of the Secretary (OST) within the Department of Transportation (DOT) provides financial assistance to State and local Governments, including U.S. territories, tribal Governments, transit agencies, port authorities, metropolitan planning organizations (MPOs), and other political subdivisions of State or local Governments through the Nationally Significant Freight and Highway Projects Program, which was established in the Fixing American's Surface Transportation Act of 2015 (“FAST ACT”), Public Law 1105. These discretionary grants were previously referred to by the DOT as “Fostering Advancements in Shipping and Transportation for the Long-Term Achievement of National Efficiencies”, or “FASTLANE” Discretionary Grants, and are now referred to as “Infrastructure for Rebuilding America” or “INFRA” Discretionary Grants. The Office of the Secretary of Transportation (“OST”) is referring to these grants as “FASTLANE” or “INFRA” Discretionary Grants, depending on the year of award. The purpose of each program is to advance projects that will have a significant impact on the Nation, metropolitan area or a region.

This notice seeks comments on the proposed information collection, which will collect information necessary to support the ongoing oversight and administration of previous awards, the evaluation and selection of new applications, and the funding agreement negotiation stage for new awards.

The reporting requirements for the program is as follows:

To be considered to receive a FASTLANE/INFRA grant, a project sponsor must submit an application to DOT containing a project narrative, as detailed in the Notice of Funding Opportunity. The project narrative should include the information necessary for the Department to determine that the project satisfies eligibility requirements as warranted by law.

Following the announcement of a funding award, the recipient and DOT will negotiate and sign a funding agreement. In the agreement, the recipient must describe the project that DOT agreed to fund, which is the project that was described in the FASTLANE/INFRA application or a reduced-scope version of that project. The agreement also includes a project schedule and budget.

During the project monitoring stage, grantees will submit reports on the financial condition of the project and the project's progress. Grantees will submit progress and monitoring reports to the Government on a quarterly basis until completion of the project. The progress reports will include an SF-425, Federal Financial Report, and other information determined by the administering DOT Operating Administration. This information will be used to monitor grantees' use of Federal funds, ensuring accountability and financial transparency in the FASTLANE/INFRA program.

For the purposes of estimating the information collection burden below for new applicants and awardees, the Department is assuming that for each year 2021-2023, the Department will review approximately 200 applications in Year 1, negotiate 20 funding agreements in Year 2, and begin quarterly project monitoring for 20 projects in Year 3. For a new applicant in 2021, their burden will be 100 hours in 2020, 4 hours in 2022, and 20 hours in 2023. See Table 1 below:

Table 1
Respondent | Year 1 (2021): Hours | Year 1 (2021): Frequency | Year 2 (2022): Hours | Year 2 (2022): Frequency | Year 3 (2023): Hours | Year 3 (2023): Frequency | Total
2021 Applicant (200) | 100 | 1 |  |  |  |  | 20000
2021 Awardee (20) |  |  | 4 | 1 |  |  | 80
2021 Recipient (20) |  |  |  |  | 5 | 4 | 400
2022 Applicant (200) | 100 | 1 |  |  |  |  | 20000
2022 Awardee (20) |  |  | 4 | 1 |  |  | 80
2022 Recipient (20) |  |  |  |  |  |  |
2023 Applicant (200) | 100 | 1 |  |  |  |  | 20000
2023 Awardee (20) |  |  |  |  |  |  |
2023 Recipient (20) |  |  |  |  |  |  |

This Notice is separately estimating the information collection burden for projects awarded from 2016-2020. Approximately 60 of these projects are in the project monitoring phase in Year 1, while 40 projects are still negotiating funding agreements. In Year 2, approximately 30 of these projects will begin project monitoring, while approximately 20 projects will cease reporting once their projects are completed. In Year 3, 10 projects will begin project monitoring while 20 projects will cease reporting. The individual burden for a project awarded from 2016-2020 will depend on when they were selected, when they completed negotiation of their funding agreement, and when their project reaches completion. See Table 2 below:

Respondent | Year 1: Number | Year 1: Hrs | Year 1: Freq | Year 2: Number | Year 2: Hrs | Year 2: Freq | Year 3: Number | Year 3: Hrs | Year 3: Freq | Total
2016-2020 Awardee | 40 | 4 | 1 | 10 | 4 | 1 | 0 | 4 | 1 | 200
2016-2020 Recipient | 60 | 5 | 4 | 70 | 5 | 4 | 60 | 5 | 4 | 3800
2016-2020 Project Closed | 0 | 0 | 0 | 20 | 0 | 0 | 40 | 0 | 0

The Department's estimated burden for this information collection is as follows:

New Applications:

Expected Number of Respondents: Approximately 200 per year.

Frequency: Once.

Estimated Average Burden per Response: 100 hours for each new Application;

For Funding Agreements:

Expected Number of Respondents: Approximately 30 in Year 1 and 2, 20 in Year 3.

Frequency: Once.

Estimated Average Burden per Response: 4 hours for each new Funding Agreement.

For Project Monitoring:

Expected Number of Respondents: Estimated 60 in Year 1, 70 in Year 2, 80 in Year 3.

Frequency: Quarterly.

Estimated Average Burden per Response: 5 hours for each request for Quarterly Progress and Monitoring Report;

Estimated Total 3-year Burden on Respondents: 64,560 hours. (New Applicants [60,000 hrs], New Awardees/Recipients [560 hrs] + Prior Awardees/Recipients [4000 hrs]).

The following is detailed information and instructions regarding the specific reporting requirements for each report identified above:

Application Stage

To be considered to receive a FASTLANE or INFRA grant, a project sponsor must submit an application to DOT containing a project narrative, as detailed in the Notice of Funding Opportunity. The project narrative should include the information necessary for the Department to determine that the project satisfies eligibility requirements.

Applications must be submitted through www.Grants.gov. Instructions for submitting applications can be found at https://www.transportation.gov/buildamerica/infragrants. The application must include the Standard Form 424 (Application for Federal Assistance), Standard Form 424C (Budget Information for Construction Programs), cover page, and the Project Narrative.

The application should include a table of contents, maps, and graphics, as appropriate, to make the information easier to review. The Department recommends that the application be prepared with standard formatting preferences (i.e., a single-spaced document, using a standard 12-point font such as Times New Roman, with 1-inch margins). The project narrative may not exceed 25 pages in length, excluding cover pages and table of contents. The only substantive portions that may exceed the 25-page limit are documents supporting assertions or conclusions made in the 25-page project narrative. If possible, website links to supporting documentation should be provided rather than copies of these supporting materials. If supporting documents are submitted, applicants should clearly identify within the project narrative the relevant portion of the project narrative that each supporting document supports. At the applicant's discretion, relevant materials provided previously to a modal administration in support of a different USDOT financial assistance program may be referenced and described as unchanged.

OST estimates that it takes approximately 100 person-hours to compile an application package for a FASTLANE/INFRA application. Since OST expects to receive 200 applications per funding round, the total hours required are estimated to be 20,000 hours (100 hours × 200 applications = 20,000 hours) on a one-time basis, per funding round.

Funding Agreement Stage

DOT enters a funding agreement with each recipient. In the agreement, the recipient describes the project that DOT agreed to fund, which is typically the project that was described in the FASTLANE/INFRA application or a reduced-scope version of that project. The agreement also includes the project schedule and budget.

OST estimates that it takes approximately 4 person-hours to respond to provide the information necessary for funding agreements. Based on previous rounds of FASTLANE/INFRA awards, OST estimates that there will likely be 20 agreements negotiated per additional funding round. The total hours required are estimated to be 40 (4 hours × 40 agreements = 40 hours) on a one-time basis, per funding round.

Project Monitoring Stage

OST requires each recipient to submit quarterly reports during the project to ensure the proper and timely expenditure of Federal funds under the grant.

The requirements comply with 2 CFR part 200 and are restated in the funding agreement. During the project monitoring stage, the grantee will complete Quarterly Progress Reports to allow DOT to monitor the project budget and schedule.

OST estimates that it takes approximately 5 person-hours to develop and submit a quarterly progress report. OST expects approximately 20 projects to be awarded per funding round, while grants awarded in prior years will reach completion during the year and would no longer need to submit these reports. OST expects recipients and awardees from 2016-2020 will require 3800 hours to submit project monitoring reports while new recipients and awardees will require 560 hours from 2021-2023.

Authority: The Paperwork Reduction Act of 1995; 44 U.S.C. Chapter 35, as amended; and 49 CFR 1:48.

Issued in Washington, DC, on November 12, 2020.
John Augustine,
Director of the Office of Infrastructure Finance and Innovation, Office of the Under Secretary for Transportation Policy.

[FR Doc. 2020-25321 Filed 11-16-20; 8:45 am]

BILLING CODE 4910-9X-P